SMALL BUSINESS ADMINISTRATION

Revocation of License of Small Business Investment Company

Pursuant to the authority granted to the United States Small Business Administration by the Final Order of the United States District Court for the Northern District of California, San Jose Division, dated June 9, 2009, the United States Small Business Administration hereby revokes the license of Aspen Ventures West, II, L.P., a Delaware Limited Partnership, to function as a small business investment company under the Small Business Investment Company License No. 09790400 issued to Aspen Ventures West, II, L.P., on November 8, 1994 and said license is hereby declared null and void as of June 9, 2009.

U.S. Small Business Administration.
Dated: April 19, 2011.
Harry E. Haskins,
Associate Administrator for Investment.

[FR Doc. 2011-10110 Filed 4-26-11; 8:45 am]

BILLING CODE 8025-01-P